DEPARTMENT OF THE INTERIOR

National Park Service

[NPS-WASO-NAGPRA-NPS0028836; PPWOCRADN0-PCU00RP14.R50000]

Notice of Inventory Completion: U.S. Army Corps of Engineers, Omaha District, Omaha, NE, and South Dakota State Archaeological Research Center, Rapid City, SD

AGENCY: National Park Service, Interior.

ACTION: Notice.

SUMMARY: The U.S. Army Corps of Engineers, Omaha District (USACE, Omaha District) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the USACE Omaha District. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the USACE Omaha District at the address in this notice by October 24, 2019.

ADDRESSES: Ms. Sandra Barnum, U.S. Army Corps of Engineers, Omaha District, ATTN: CENWO-PMA-C, 1616 Capitol Avenue, Omaha, NE 68102, telephone (402) 995-2674, email sandra.v.barnum@usace.army.mil.

SUPPLEMENTARY INFORMATION: Notice is here given in accordance with the Native American Graves Protection and Repatriation Act (NAGPRA), 25 U.S.C. 3003, of the completion of an inventory of human remains and associated funerary objects under the control of the U.S. Army Corps of Engineers, Omaha District, Omaha, NE, and in the physical custody of the South Dakota State Archaeological Research Center, Rapid City, SD. The human remains and associated funerary objects were removed from site 39BO0206 in Bon Homme County, SD.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by South Dakota State Archaeological Research Center (SARC) and USACE Omaha District professional staff in consultation with representatives of the Yankton Sioux Tribe of South Dakota.

History and Description of the Remains

In 1964, human remains representing, at minimum, one individual were removed from the Harmon Site, 39BO0206, in Bon Homme County, SD. The human remains were collected by James Howard and Robert Gant, archeologists from the University of South Dakota-Vermillion Museum, during a salvage excavation of a burial eroding out of the cutbank on the Gavins Point Reservoir. The human remains and funerary objects were stored at the South Dakota-Vermilion Museum, which housed SARC at the time, and then were transferred to the new SARC facility at Fort Meade, SD, in 1976. The majority of the human remains were reburied at site 39ST0015 in 1986. The following year, the SARC facility moved from Fort Meade, SD, to Rapid City, SD. During an inventory at SARC in 1992, a small bag containing post-cranial remains from the re-buried individual was found, along with the funerary objects that had not been reburied. No known individuals were identified. The five associated funerary objects are one faunal bone, one lithic biface, one lithic core fragment, one unmodified stone, and one lithic shatter piece.

Determinations Made by the U.S. Army Corps of Engineers, Omaha District

Officials of the U.S. Army Corps of Engineers, Omaha District have determined that:

• Pursuant to 25 U.S.C. 3001(9), the human remains described in this notice are Native American based on archeological context and morphological features of the human remains.

• Pursuant to 25 U.S.C. 3001(9), the human remains described in this notice represent the physical remains of one individual of Native American ancestry.

• Pursuant to 25 U.S.C. 3001(3)(A), the five objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission, the land from which the Native American human remains and associated funerary objects were removed is the aboriginal land of the Yankton Sioux Tribe of South Dakota.

• Treaties indicate that the land from which the Native American human remains and associated funerary objects were removed is the aboriginal land of the Yankton Sioux Tribe of South Dakota.

• Pursuant to 43 CFR 10.11(c)(1), the disposition of the human remains and associated funerary objects may be to the Yankton Sioux Tribe of South Dakota.

Additional Requestors and Disposition

Representatives of any Indian Tribe or Native Hawaiian organization not identified in this notice that wish to request transfer of control of these human remains and associated funerary objects should submit a written request with information in support of the request to Ms. Sandra Barnum, U.S. Army Corps of Engineers, Omaha District, ATTN: CENWO-PMA-C, 1616 Capitol Avenue, Omaha, NE 68102, telephone, (402) 995-2674, email sandra.v.barnum@usace.army.mil, by October 24, 2019. After that date, if no additional requestors have come forward, transfer of control of the human remains and associated funerary objects to the Yankton Sioux Tribe of South Dakota may proceed.

The U.S. Army Corps of Engineers, Omaha District is responsible for notifying the Yankton Sioux Tribe of South Dakota that this notice has been published.

Dated: September 3, 2019.
Melanie O'Brien,
Manager, National NAGPRA Program.

[FR Doc. 2019-20616 Filed 9-23-19; 8:45 am]

BILLING CODE 4312-52-P